DEPARTMENT OF STATE

[Public Notice 3402]

Culturally Significant Objects Imported for Exhibition Determinations: “Eternal Egypt: Masterworks of Ancient Art from the British Museum”

AGENCY: Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681, et seq.), Delegation of Authority No. 234 of October 1, 1999, and Delegation of Authority No. 236 of October 19, 1999, as amended, I hereby determine that the objects to be included in the exhibition “Eternal Egypt: Masterworks of Ancient Art from the British Museum” imported from abroad for the temporary exhibition without profit within the United States, are of cultural significance. These objects are imported pursuant to loan agreements with foreign lenders. I also determine that the exhibition or display of the exhibit objects at the Toledo Museum of Art, Toledo, OH, from March 1, 2001 through May 27, 2001, the Wonders: Memphis International Cultural Series, Memphis, TN, from June 28, 2001 through October 21, 2001, the Brooklyn Museum of Art, Brooklyn, NY, from November 23, 2001 through February 24, 2002, the Nelson-Atkins Museum of Art, Kansas City, MO, from April 12, 2002 through July 7, 2002, the Minneapolis Institute of Arts, Minneapolis, MN, from December 20, 2002 through March 16, 2003, the Field Museum of Natural History, Chicago, IL, from April 26, 2003 through August 3, 2003, and the Walters Art Gallery, Baltimore, MD, from September 19, 2003 through January 4, 2004 is in the national interest. Public Notice of these Determinations are ordered to be published in the Federal Register.

FOR FURTHER INFORMATION CONTACT: For further information, including a list of exhibit objects, contact Jacqueline Caldwell, Attorney-Adviser, Office of the Legal Adviser, U.S. Department of State (telephone: 202/619-6982). The address is U.S. Department of State, SA-44, 301 4th Street, SW., Room 700, Washington, DC 20547-0001.

Dated: August 24, 2000.
William B. Bader,
Assistant Secretary for Educational and Cultural Affairs, Department of State.

[FR Doc. 00-22181 Filed 8-29-00; 8:45 am]

BILLING CODE 4710-08-U